COUNCIL OF THE INSPECTORS GENERAL ON INTEGRITY AND EFFICIENCY

30-Day Notice for Request for Generic Clearance for Website Satisfaction Surveys

AGENCY: Council of the Inspectors General on Integrity and Efficiency (CIGIE).

ACTION: Notice and request for comments.

SUMMARY: CIGIE, as part of its effort to reduce paperwork and respondent burden, invites the general public to take this opportunity to comment on the “Generic Clearance for the Collection of Qualitative Feedback on website Satisfaction” for approval under the Paperwork Reduction Act (PRA). This notice announces CIGIE's intent to submit this collection to OMB for approval and solicits comments on specific aspects for the proposed information collection. The information collection was previously published in the Federal Register on September 2, 2022, allowing for a 60-day public comment period. The purpose of this notice is to allow an additional 30 days for public comments.

DATES: Consideration will be given to all comments received by January 13, 2023.

ADDRESSES: Submit comments identified by “CIGIE Request for Generic Clearance 2022-1” by any of the following methods:

1. Mail: Council of the Inspectors General on Integrity and Efficiency, 1717 H Street NW, Suite 825, Washington DC 20006. ATTN: Atticus Reaser/CIGIE Request for Generic Clearance 2022-1.

2. Email: comments@cigie.gov.

FOR FURTHER INFORMATION CONTACT: Atticus Reaser, General Counsel, Council of the Inspectors General on Integrity and Efficiency, (202) 292-2600 or comments@cigie.gov.

SUPPLEMENTARY INFORMATION: This information collection was previously published as 60-Day Notice for Request for Generic Clearance for website Satisfaction Surveys at 87 FR 54203 (September 2, 2022).

Title: Generic Clearance for the Collection of Qualitative Feedback on website Satisfaction.

Abstract: The proposed information collection activity provides a means to garner qualitative website user and stakeholder feedback in an efficient, timely manner. By qualitative feedback CIGIE means information that provides useful insights on perceptions and opinions, but are not statistical surveys that yield quantitative results that can be generalized to the population of study. This feedback will provide insights into website user or stakeholder perceptions, experiences, and expectations, provide an early warning of issues with service, or focus attention on areas where communication, training, or changes in operations might improve delivery of information. These collections will allow for ongoing, collaborative, and actionable communications between CIGIE and its stakeholders and the public. It will also allow feedback to contribute directly to the improvement of program management.

The solicitation of feedback will target areas such as: timeliness, appropriateness, accuracy of information, courtesy, efficiency of information delivery, and resolution of issues. Responses will be assessed to plan and inform efforts to improve or maintain the quality of CIGIE's websites. If this information is not collected, vital feedback from users and stakeholders of CIGIE's websites will be unavailable.

CIGIE will only submit a collection for approval under this generic clearance if it meets the following conditions:

The collections are voluntary;

The collections are low-burden for respondents (based on considerations of total burden hours, total number of respondents, or burden-hours per respondent) and are low-cost for both the respondents and the Federal Government;

The collections are non-controversial and do not raise issues of concern to other Federal agencies;

Any collection is targeted to the solicitation of opinions from respondents who have experience with the program or may have experience with the program in the near future;

Personally identifiable information (PII) is collected only to the extent necessary and is not retained;

Information gathered will be used only internally for general service improvement and program management purposes and is not intended for release outside of the agency;

Information gathered will not be used for the purpose of substantially informing influential policy decisions; and

Information gathered will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior to fielding the study.

As a general matter, information collections will not result in any new system of records containing privacy information and will not ask questions of a sensitive nature, such as sexual behavior and attitudes, religious beliefs, and other matters that are commonly considered private.

Current Action: Request for approval for a collection of information.

Type of Review: Initial approval.

Affected Public: Individuals, households, professionals, public/private sector.

Annual Reporting Burden: Estimated Number of Respondents: 20,000.

Responses per Respondent: 1.

Estimated Total Annual Responses: 20,000.

Estimated Average Hours per Response: 4 minutes.

Estimated Total Burden Hours: 666 hours.

Request for Comments: Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose, or provide information to or for a Federal agency. This includes the time needed to review instructions; to develop, acquire, install, and utilize technology and systems for the purpose of collecting, validating, and verifying information, processing and maintaining information, and disclosing and providing information; to train personnel and to be able to respond to a collection of information, to search data sources, to complete and review the collection of information; and to transmit or otherwise disclose the information.

An agency may not conduct or sponsor, and a person is not required to respond to, a collection of information unless it displays a currently valid OMB control number.

Dated: December 9, 2022.
Allison C. Lerner,
Chairperson of the Council of the Inspectors General on Integrity and Efficiency.

[FR Doc. 2022-27137 Filed 12-13-22; 8:45 am]

BILLING CODE 6820-C9-P